ENVIRONMENTAL PROTECTION AGENCY

40 CFR Part 82

[FRL-7477-6]

RIN 2060-AG12

Protection of Stratospheric Ozone: Listing of Substitutes for Ozone-Depleting Substances; Correction

AGENCY: Environmental Protection Agency.

ACTION: Proposed rule; correction.

SUMMARY: The Environmental Protection Agency published in the Federal Register of January 27, 2003, a direct final rule and companion proposed rule related to the Significant New Alternatives Policy (SNAP) program. A typographical error was made in the listing of a product name. This document identifies and corrects the error in the proposed rule.

DATES: These corrections are made as of April 7, 2003.

FOR FURTHER INFORMATION CONTACT: Bella Maranion, by telephone at (202) 564-9479, by fax at (202) 565-2155, by e-mail at maranion.bella@epa.gov, or by mail at U.S. Environmental Protection Agency, Mail Code 6205J, Washington, DC 20460. Overnight or courier deliveries should be sent to the office location at 501 3rd Street, NW., Washington, DC, 20001. Further information can be found by calling the Stratospheric Protection Hotline at (800) 296-1996, or by viewing EPA's Ozone Depletion World Wide Web site at http://www.epa.gov/ozone/title6/snap/.

SUPPLEMENTARY INFORMATION: The Environmental Protection Agency published in the Federal Register of January 27, 2003, a proposed rule (68 FR 4012) related to the Significant New Alternatives Policy (SNAP) program. In FR Doc. 03-1624, published on January 27, 2003, a typographical error was made in the listing of a product name.

In FR Doc. 03-1624, published on January 23, 2003 (68 FR 4012), under “Supplementary Information”, section II, “Administrative Requirements”, make the following correction: on page 4013, in the second full paragraph of the second column, correct the product name “H Galen HOPES” to read “H Galden HFPEs” in both places in the paragraph where this error occurs.

Administrative Requirements

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting an incorrect citation in a previous action. Thus, notice and public procedure are unnecessary. We find that this constitutes good cause under 5 U.S.C. 553(b)(B).

Under Executive Order 12866 (58 FR 51735, October 4, 1993), this correction is not a “significant regulatory action” and is therefore not subject to review by the Office of Management and Budget (OMB). Because the EPA has made a “good cause” finding that this correction is not subject to notice and comment requirements under the Administrative Procedure Act or any other statute, it is not subject to the regulatory flexibility provisions of the Regulatory Flexibility Act (5 U.S.C. 601 et seq.), or to sections 202 and 205 of the Unfunded Mandates Reform Act of 1995 (UMRA) (Public Law 104-4). In addition, this correction does not significantly or uniquely affect small governments or impose a significant intergovernmental mandate, as described in sections 203 and 204 of the UMRA. This correction also does not significantly or uniquely affect the communities of tribal governments, as specified by Executive Order 13175 (65 FR 67249, November 6, 2000). This correction does not have substantial direct effects on the States, or on the relationship between the national government and the States, as specified in Executive Order 13132 (64 FR 43255, August 10, 1999). This correction also is not subject to Executive Order 13045 (62 FR 19885, April 23, 1997) because it is not economically significant. This rule is not a “significant energy action” as defined in Executive Order 13211, Actions Concerning Regulations That Significantly Affect Energy Supply, Distribution, or Use (66 FR 28355 (May 22, 2001) because it is not likely to have a significant adverse effect on the supply, distribution, or use of energy.

This correction does not involve technical standards; thus, the requirements of section 12(d) of the National Technology Transfer and Advancement Act (NTTAA) of 1995 (15 U.S.C. 272) do not apply. This correction also does not involve special consideration of environmental justice related issues as required by Executive Order 12898 (59 FR 7629, February 16, 1994). This correction does not impose an information collection burden under the provisions of the Paperwork Reduction Act of 1995 (44 U.S.C. 3501 et seq.). The EPA's compliance with these statutes and Executive Orders for the underlying rule is discussed in the rule for the Listing of Substitutes for Ozone-Depleting Substances; Final Rule and Proposed Rule.

List of Subjects in 40 CFR Part 82

Environmental protection, Administrative practice and procedure, Air pollution control, Reporting and recordkeeping requirements.

Dated: March 25, 2003.
Drusilla Hufford,
Director, Global Programs Division.

[FR Doc. 03-8366 Filed 4-4-03; 8:45 am]

BILLING CODE 6560-50-P